DEPARTMENT OF DEFENSE

Office of the Secretary

[Docket ID: DoD-2024-OS-0106]

Submission for OMB Review; Comment Request

AGENCY: Office of the Under Secretary of Defense for Intelligence and Security (OUSD(I&S)), Department of Defense (DoD).

ACTION: 30-Day information collection notice.

SUMMARY: The DoD has submitted to the Office of Management and Budget (OMB) for clearance the following proposal for collection of information under the provisions of the Paperwork Reduction Act.

DATES: Consideration will be given to all comments received by January 29, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Personnel Security System Access Request (PSSAR) Form; DD Form 2962, Volume 2; OMB Control Number 0705-0009.

Type of Request: Extension.

Number of Respondents: 22,225.

Responses per Respondent: 1.

Annual Responses: 22,225.

Average Burden per Response: 10 minutes.

Annual Burden Hours: 3,704.2.

Needs and Uses: The DD Form 2962, Volume 2, Personnel Security System Access Request (PSSAR) is used to collect the necessary information to vet and establish accounts for persons wishing to become users and gain access to personnel systems across the DoD, including National Background Investigation Services, the Defense Information System for Security, the Defense Central Index of Investigations, the Secure Web Fingerprint Transmission. These systems facilitate the initiation, investigation, and adjudication of information relevant to DoD security clearances and employment suitability determinations for active-duty military, civilian employees and contractors seeking such credentials. These personnel security systems are the authoritative source for clearance information resulting in accesses determinations to sensitive/classified information and facilities. The PSSAR Form is solely used for the purpose of requesting an account for these systems, and this information collection request is not intended to cover any information collected within those systems. Each respondent is required to always have a completed form on file to remain compliant with the account request procedures for all systems.

Affected Public: Individuals or households.

Frequency: On occasion.

Respondent's Obligation: Voluntary.

DOD Clearance Officer: Mr. Reginald Lucas.

Dated: December 18, 2024.
Stephanie J. Bost,
Alternate OSD Federal Register Liaison Officer, Department of Defense.

[FR Doc. 2024-30888 Filed 12-27-24; 8:45 am]

BILLING CODE 6001-FR-P